DEPARTMENT OF EDUCATION

Notice of Proposed Information Collection Requests

AGENCY: Department of Education.

ACTION: Notice of intention to remove certain questions from proposed IPEDS survey.

SUMMARY: Under the Paperwork Reduction Act of 1995 (PRA), the Department of Education published on January 24, 2007, a Notice of Proposed Information Collection Requests in the Federal Register on Page 3119, Column 1 (72 FR 3119). That document invited public comment for a period of 60 days on the proposed information collection entitled, “Integrated Postsecondary Education Data System (IPEDS), Web-Based Collection System”. The Department has received comments regarding some of the new questions included for the first time in this proposed IPEDS Information Collection Request (ICR). The Secretary has taken these comments into consideration and decided to revise the proposed collection by removing some of the new items proposed for this annual data collection. The Department will continue to take comment on the proposed IPEDS ICR during the remainder of the initial 60-day comment period and will post the revised IPEDS ICR on the Web site the Department uses to take comment. The current proposed IPEDS ICR and the revised proposed IPEDS ICR are and will be available at http://edicsweb.ed.gov. After posting the revised ICR, the Department will publish the required second PRA notice, providing an opportunity for an additional 30-day public comment period. The IC Clearance Official, Regulatory Information Management Services, Office of Management, hereby issues this notice under the Paperwork Reduction Act of 1995.

Dated: March 2, 2007.
Angela C. Arrington,
IC Clearance Official, Regulatory Information Management Services, Office of Management.

[FR Doc. E7-4108 Filed 3-7-07; 8:45 am]

BILLING CODE 4000-01-P